DEPARTMENT OF THE INTERIOR

National Park Service

Notice of Availability of an Environmental Assessment

AGENCY: Department of the Interior, National Park Service.

ACTION: Notice of availability of an Environmental Assessment (EA) evaluating the potential impacts to the human and natural environment from two existing cellular communications towers located within Rock Creek Park, Washington, DC.

SUMMARY: Pursuant to the National Environmental Policy Act (NEPA), Council of Environmental Quality regulations, and National Park Service policy, this notice announces the availability, starting April 2, 2003, of an Environmental Assessment (EA) evaluating the potential impacts to the human and natural environmental from two existing cellular communications towers located within Rock Creek Park, Washington, DC.

Copies of this document are available at www.nps.gov/rocr and the following public libraries: Martin Luther King Memorial Library, 901 G Street NW., Washington, DC, 2001; Chevy Chase Library, 5625 Connecticut Avenue NW., Washington, DC 20015; Cleveland Park Library, 3310 Connecticut Avenue, NW., Washington, DC, 2008; Georgetown Library, 3260 R Street NW., Washington, DC, 2007; Juanita Thorton Shepard Park Branch Library, 7420 Georgia Avenue NW., Washington, DC, 20012; Langston Community Library, 2600 Bennet Road NE., Washington, DC, 20019; Mt. Pleasant Library, 1600 Lamont Street, NW., Washington, DC 20010; Northeast Branch Library, 330 7th Street NE., Washington, DC, 20002; Petworth Branch Library, 4200 Kansas Avenue NW., Washington, DC, 20011; Tenly-Friendship Branch Library, 4450 Wisconsin Avenue NW., Washington, DC 20016; Watha T. Daniel Library, 1701 8th Street NW., Washington, DC, 20001; Woodbridge Library, 1801 Hamlin Street NE., Washington, DC, 20018; Library of Congress, 101 Independence Avenue SE., Washington, DC, 20540; Palisades, 4901 V Street NW., Washington, DC, 20007; Sursum Corda Community Library, 135 New York Avenue NW., Washington, DC, 20001. You may also request a hard copy at (202) 895-6000.

DATES: There will be a 30-day public review period for comment on this document. Comments on the EA should be received by May 2, 2003, or 30 days from the publication of this notice, whichever is later. The National Park Service will be making its decision on this EA by June 20, 2003.

ADDRESSES: Comments on the EA should be submitted via mail or hand delivery to: Superintendent, Rock Creek Park, 3545 Williamsburg Lane NW., DC., 20008-1207. You may also submit comments via e-mail at ROCR@den.nps.gov. it is the practice of the National Park Service to make comments, including names and addresses of respondents, available for public review. However, individual respondents may request that the National Park Service withhold their address from the record, which the National Park Service will honor to the extent allowable by law. If you wish for your name and address to be withheld, you must state this prominently at the beginning of your comment. The National Park Service will make all submissions from organizations or businesses, and from individuals identifying themselves as representatives or officials of organizations or businesses, available for public inspection in their entirety.

FOR FURTHER INFORMATION CONTACT: In 1998, pursuant to the Telecommunications Act of 1996, Bell Atlantic Mobile, Inc. (now Verizon Wireless) filed applications for permits to locate two cellular towers along with their associated equipment shelters from Rock Creek Park. In 1999, pursuant to NEPA, the National Park Service prepared an EA that considered the environmental impacts of siting the two towers inside the park. After completing the EA, the National Park Service concluded that the towers would not have a significant impact to the quality of the human environment, and issued a Finding of No Significant Impact. The National Park Service subsequently issued the permits necessary for Bell Atlantic to construct and operate within Rock Creek Park one 100-foot monopole at the Tennis Center, and one 130-foot monopole in the Maintenance Yard. Both towers have since been built and are currently in use. In 2000, suite was filed opposing these cellular towers, and on July 2, 2002 the Federal District Court for the District of Columbia, in Audubon Naturalist Society of the Central Atlantic States v. the National Park Service and Bell Atlantic Mobile, ordered the National Park Service to prepare this new EA. The schedule for this EA was set by the court. As part of this process, the National Park Service held a public scoping meeting on December 11, 2002.

This EA evaluates the potential environmental consequences of two action alternatives, alternatives B and C, along with a Non Action Alternative, Alternative A. Alternative A would allow the towers to continue operating at the tennis center and maintenance yard as currently permitted. Alternative B, the preferred alternative, would also allow for the continued operation of the towers at the tennis center and maintenance yard as currently permitted, with additional mitigation to further protect and study park resources. The mitigation measures called for in Alternative B would require the National Park Service to develop telecommunications facilities guidance to assist the park in protecting its resources and values, and also require the park to establish a bird-monitoring program to precisely determine the potential impacts of the towers on migratory birds. Alternative C describes and considers various scenarios for siting towers at alternative locations outside Rock Creek Park. In addition to Alternatives A, B, and C, the EA contains a discussion of those alternatives that were considered but rejected.

For further information contact Adrienne Coleman, Superintendent, Rock Creek Park, at 3545 Williamsburg Lane NW., Washington, DC 20008-1207, or by telephone at (202) 895-6004.

Dated: April 14, 2003.
Terry R. Carlstrom,
Regional Director, National Capital Region.

[FR Doc. 03-7946 Filed 4-1-03; 8:45 am]

BILLING CODE 4310-70-M